FEDERAL MARITIME COMMISSION

Ocean Transportation Intermediary License; Revocations

The Federal Maritime Commission hereby gives notice that the following Ocean Transportation Intermediary licenses have been revoked pursuant to section 19 of the Shipping Act of 1984 (46 U.S.C. Chapter 409) and the regulations of the Commission pertaining to the licensing of Ocean Transportation Intermediaries, 46 CFR Part 515, effective on the corresponding date shown below:

License Number: 021765N.

Name: AMA Freight USA, LLC.

Address: 12280 Rojas Drive, Ste. C, El Paso, TX 79936.

Date Revoked: July 27, 2009.

Reason: Surrendered license voluntarily.

License Number: 021306NF.

Name: Borderline Shipping Inc.

Address: 3004 SW. 26th Court, Cape Coral, FL 33914.

Date Revoked: July 29, 2009.

Reason: Failed to maintain valid bonds.

License Number: 016478NF.

Name: Cargo Venmex Corporation.

Address: P.O. Box 60514 AMF, Houston, TX 77205.

Date Revoked: July 31, 2009.

Reason: Surrendered license voluntarily.

License Number: 020076NF.

Name: Florida Freight Forwarders, LLC.

Address: 2041 NW. 12th Ave., Miami, FL 33127.

Date Revoked: July 22, 2009.

Reason: Failed to maintain valid bonds.

License Number: 020916N.

Name: Golden Sea (USA) Inc. dba M K D (USA).

Address: 155-06 So. Conduit Ave., Ste. 200, Jamaica, NY 11434.

Date Revoked: July 30, 2009.

Reason: Failed to maintain a valid bond.

License Number: 016258N.

Name: International Freight Consolidators, Inc.

Address: 1160 NW. 21st Terr., Miami, FL 33127.

Date Revoked: July 30, 2009.

Reason: Failed to maintain a valid bond.

License Number: 016037N.

Name: J.C. Express of Miami, Corp.

Address: 8545 NW. 72nd St., Miami, FL 33166.

Date Revoked: July 30, 2009.

Reason: Failed to maintain a valid bond.

License Number: 005800N.

Name: Innovative Freighting, Inc.

Address: 5362 NE. 112th Ave., Portland, OR 97220.

Date Revoked: July 27, 2009.

Reason: Surrendered license voluntarily.

License Number: 020668F.

Name: Valcad Construction, LLC.

Address: 3211 W. Northwest Highway, Ste. 200, Dallas, TX 75220.

Date Revoked: July 22, 2009.

Reason: Failed to maintain a valid bond.

Sandra L. Kusumoto,
Director, Bureau of Certification and Licensing.

[FR Doc. E9-19360 Filed 8-11-09; 8:45 am]

BILLING CODE 6730-01-P